DEPARTMENT OF TRANSPORTATION

Federal Aviation Administration

14 CFR Part 71

[Docket No. FAA-2001-10743; Airspace Docket No. 01-ASW-16]

Realignment of Federal Airway V-385; TX

AGENCY: Federal Aviation Administration (FAA), DOT.

ACTION: Final Rule.

SUMMARY: This action realigns Federal Airway 385 (V-385) between Lubbock, TX, and Abilene, TX, so that aircraft will be able to navigate on the airway without encroaching upon the newly designated Lancer Military Operations Area (MOA).

EFFECTIVE DATE: 0901 UTC, June 13, 2002.

FOR FURTHER INFORMATION CONTACT: Steve Rohring, Airspace and Rules Division, ATA-400, Office of Air Traffic Airspace Management, Federal Aviation Administration, 800 Independence Avenue, SW., Washington, DC 20591; telephone: (202) 267-8783.

SUPPLEMENTARY INFORMATION:

Background

On December 7, 2001, the FAA proposed to amend 14 CFR part 71 to realign V-385 by moving a turning point (BOOMR intersection) approximately seven miles to the east of its present location (66 FR 63517). With this realignment, aircraft can navigate between Lubbock, TX, and Abilene, TX, without encroaching upon the Lancer MOA. Interested parties were invited to participate in this rulemaking proceeding by submitting written comments on this proposal to the FAA. No comments were received in response to the proposal.

The Rule

This amendment to 14 CFR part 71 realigns V-385 between Lubbock, TX, and Abilene, TX, by relocating the BOOMR intersection and moving the airway approximately seven miles to the east of its present location. This realignment allows aircraft to navigate on V-385 between Lubbock, TX, and Abilene, TX, without encroaching upon the Lancer MOA.

The FAA has determined that this regulation only involves an established body of technical regulations for which frequent and routine amendments are necessary to keep them operationally current. It, therefore—(1) is not a “significant regulatory action” under Executive Order 12866; (2) is not a “significant rule” under DOT Regulatory Policies and Procedures (44 FR 11034; February 26, 1979); and (3) does not warrant preparation of a regulatory evaluation as the anticipated impact is so minimal. Since it has been determined that this is a routine matter that will only affect air traffic procedures and air navigation, it is certified that this rule, when promulgated, will not have a significant economic impact on a substantial number of small entities under the criteria of the Regulatory Flexibility Act.

Federal airways are published in paragraph 6010(a) of FAA Order 7400.9J dated August 31, 2001, and effective September 16, 2001, which is incorporated by reference in 14 CFR 71.1. The Federal airway listed in this document will be published subsequently in the Order.

Environmental Review

The FAA has determined that this action qualifies for categorical exclusion under the National Environmental Policy Act in accordance with FAA Order 1050.1D, Policies and Procedures for Considering Environmental Impacts. This airspace action is not expected to cause any potentially significant environmental impacts, and no extraordinary circumstances exist that warrant preparation of an environmental assessment.

List of Subjects in 14 CFR Part 71

Airspace, Incorporation by reference, Navigation (air).

Adoption of the Amendment

In consideration of the foregoing, the Federal Aviation Administration amends 14 CFR Part 71 as follows:

PART 71—DESIGNATION OF CLASS A, CLASS B, CLASS C, CLASS D, AND CLASS E, AIRSPACE AREAS; AIRWAYS; ROUTES; AND REPORTING POINTS

1. The authority citation for part 71 continues to read as follows:

Authority: 49 U.S.C. 106(g), 40103, 40113, 40120; E.O. 10854, 24 FR 9565, 3 CFR, 1959-1963 Comp., p. 389.

§ 71.1 [Amended]

2. The incorporation by reference in 14 CFR 71.1 of the Federal Aviation Administration Order 7400.9J, Airspace Designations and Reporting Points, dated August 31, 2001, and effective September 16, 2001, is amended as follows:

Paragraph 6010(a)—Domestic VOR Federal Airways

* * * * *

V-385 [Revised]

From Lubbock, TX, INT Lubbock 105° and Abilene, TX, 329° radials; Abilene.

* * * * *

Issued in Washington, DC, on April 17, 2002.
Reginald C. Matthews,
Manager, Airspace and Rules Division.

[FR Doc. 02-9941 Filed 4-22-02; 8:45 am]

BILLING CODE 4910-13-P